FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011756-001.

Title: New World Alliance/Evergreen Slot Exchange Agreement.

Parties: American President Lines, Ltd./APL Co. Pte Ltd. (acting as one party) (“APL”)

Hyundai Merchant Marine Co. Ltd. (“Hyundai”)

Mitsui O.S.K. Lines, Ltd. (“MOL”)

Evergreen Marine Corp. (Taiwan) Ltd. (“Evergreen”)

Synopsis: The proposed agreement modification deletes Thailand and Malaysia from the geographic scope, revises the number of vessels deployed by the parties in the trade, revises the average capacity of the parties' vessels, revises the list of services on which the parties exchange slots, and adds specific slot allocations for each party. It also republishes the agreement in a second edition and establishes an initial 12-month period for the second edition of the agreement.

Dated: May 22, 2003.
By Order of the Federal Maritime Commission.
Bryant L. VanBrakle,
Secretary.

[FR Doc. 03-13324 Filed 5-28-03; 8:45 am]

BILLING CODE 6730-01-P